FEDERAL RESERVE SYSTEM

12 CFR Parts 238 and 252

[Docket No. R-1648; RIN 7100-AF37]

Regulations LL and YY; Amendments to the Company-Run and Supervisory Stress Test Rules; Correction

AGENCY: Board of Governors of the Federal Reserve System (Board).

ACTION: Notice of proposed rulemaking; correction.

SUMMARY: This document corrects the end of the comment period for a notice of proposed rulemaking (NPR) published in the Federal Register of February 14, 2019, that would modify company-run stress testing requirements to conform to section 401 of the Economic Growth, Regulatory Relief, and Consumer Protection Act (EGRRCPA).

DATES: The comment period for the NPR published on February 14, 2019, at 84 FR 4002, is corrected. Comments must be received by March 21, 2019.

FOR FURTHER INFORMATION CONTACT: Benjamin W. McDonough, Assistant General Counsel, (202) 452-2036, Julie Anthony, Senior Counsel, (202) 475-6682, or Asad Kudiya, Counsel, Legal Division, Board of Governors of the Federal Reserve System, 20th Street and Constitution Avenue NW, Washington, DC 20551. Additional contact information is identified in the NPR (See 84 FR 4002 (February 14, 2019). Users of Telecommunication Device for Deaf (TDD) only, call (202) 263-4869.

SUPPLEMENTARY INFORMATION: The Board published in the Federal Register of February 14, 2019, a notice of proposed rulemaking that would modify company-run stress testing requirements to conform to section 401 of EGRRCPA. However, the comment period for that NPR was published to end five days after publication in the Federal Register, which is contrary to the 30-day notice period intended by the Board. This document corrects that error and extends the comment period to end on March 21, 2019.

Correction

In proposed rule, FR Doc. 2019-00484, published on February 14, 2019, 84 FR 4002 make the following correction:

1. On page 4002, column one, the DATES section is corrected to read as follows:

DATES: Comments on the notice of proposed rulemaking published on February 14, 2019, (84 FR 4002) that would modify company-run stress testing requirements to conform with Economic Growth, Regulatory Relief, and Consumer Protection Act must be received by March 21, 2019.

By order of the Board of Governors of the Federal Reserve System, February 15, 2019.
Ann Misback,
Secretary of the Board.

[FR Doc. 2019-02976 Filed 2-15-19; 4:15 pm]

BILLING CODE 6210-01-P